FEDERAL COMMUNICATIONS COMMISSION

Notice of Public Information Collection(s) Being Reviewed by the Federal Communications Commission

July 8, 2004.

SUMMARY: The Federal Communications Commission, as part of its continuing effort to reduce paperwork burden invites the general public and other Federal agencies to take this opportunity to comment on the following information collection(s), as required by the Paperwork Reduction Act of 1995, Pub. L. 104-13. An agency may not conduct or sponsor a collection of information unless it displays a currently valid control number. No person shall be subject to any penalty for failing to comply with a collection of information subject to the Paperwork Reduction Act (PRA) that does not display a valid control number. Comments are requested concerning (a) Whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before August 19, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0678.

Title: Part 25 of the Commission's Rules Governing the Licensing of, and Spectrum Usage by, Satellite Network Earth Stations and Space Stations.

Form No: FCC Form 312 and Schedule S.

Type of Review: Revision of a currently approved collection.

Respondents: Business or other for-profit.

Number of Respondents: 2,396.

Estimated Time Per Response: 1-11 hours.

Frequency of Response: On occasion and annual reporting requirements and third party disclosure requirement.

Total Annual Burden: 26,334 hours.

Total Annual Cost: $8,425,000.

Privacy Act Impact Assessment: Not applicable.

Needs and Uses: On April 16, 2004, the Commission adopted and released a Fourth Report and Order in IB Docket Nos. 02-34 and 00-248, FCC 04-92. In this Order, the Commission extended mandatory electronic filing to all space station and earth station applications, related pleadings, and other filings governed by Part 25.

OMB Control No.: 3060-0774.

Title: Federal-State Joint Board on Universal Service, CC Docket No. 96-45, (47 CFR Part 54).

Form No: N/A.

Type of Review: Revision of a currently approved collection.

Respondents: Business or other for-profit, not-for-profit institutions, and state, local or tribal government.

Number of Respondents: 5,554,651 respondents; 6,311,546 responses.

Estimated Time Per Response: .084-125 hours.

Frequency of Response: On occasion, quarterly, annual and every five years reporting requirements, recordkeeping requirement and third party disclosure requirement.

Total Annual Burden: 1,876,790 hours.

Total Annual Cost: N/A.

Privacy Act Impact Assessment: N/A.

Needs and Uses: The Commission has revised this information collection because two reporting requirements have now past their due dates and are no longer in effect. We also corrected miscalculations of public burden. With this submission we are reporting more accurate estimates.

Federal Communications Commission.
Marlene H. Dortch,
Secretary.

[FR Doc. 04-16458 Filed 7-19-04; 8:45 am]

BILLING CODE 6712-01-P